CONSUMER PRODUCT SAFETY COMMISSION

Sunshine Act Meeting

TIME AND DATE: Wednesday, May 8, 2024-3:30 p.m.

PLACE: The meetings will be held remotely, and in person at 4330 East West Highway, Bethesda, Maryland 20814.

STATUS: Commission Meeting—Open to the Public.

MATTERS TO BE CONSIDERED:

Briefing Matter

FY 2024 Midyear Review

To attend remotely, please use the following link: https://cpsc.webex.com/cpsc/j.php?MTID=m6d40a3231e2b6f93a08fda74c53af1fe.

CONTACT PERSON FOR MORE INFORMATION: Alberta E. Mills, Office of the Secretary, U.S. Consumer Product Safety Commission, 4330 East West Highway, Bethesda, MD 20814, 301-504-7479 (Office) or 240-863-8938 (Cell).

Dated: May 1, 2024.
Alberta E. Mills,
Commission Secretary.

[FR Doc. 2024-09804 Filed 5-1-24; 4:15 pm]

BILLING CODE P